DEPARTMENT OF THE INTERIOR

National Park Service

[NPS-WASO-NRNHL-DTS#-32381; PPWOCRADI0, PCU00RP14.R50000]

National Register of Historic Places; Notification of Pending Nominations and Related Actions

AGENCY: National Park Service, Interior.

ACTION: Notice.

SUMMARY: The National Park Service is soliciting electronic comments on the significance of properties nominated before July 24, 2021, for listing or related actions in the National Register of Historic Places.

DATES: Comments should be submitted electronically by August 25, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 24, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ILLINOIS

Bureau County

Oakland Cemetery Historic District, 1013 Park Ave. West, Princeton, SG100006864

Cook County

Ravisloe Country Club, 18231 Park Ave., Homewood, SG100006865

Kankakee County

Pope Brace Company Building, 197 South West Ave., Kankakee, SG100006866

McLean County

Fairview Sanatorium, 905 North Main St., Normal, SG100006867

Winnebago County

Witwer House, 504 North 1st St., Rockford, SG100006872

MASSACHUSETTS

Worcester County

W.S. Reed Toy Company-Wachusett Shirt Company Historic District 41-45, Summer St., Leominster, SG100006863

MICHIGAN

Leelanau County

South Fox Island Light Station, South Fox Island, Leelanau Township vicinity, SG100006861

Wayne County

Alpha House, (The Civil Rights Movement and the African American Experience in 20th Century Detroit MPS), 293 Eliot St., Detroit, MP100006860

OHIO

Lucas County

Madison Avenue Historic District Superior Street (Boundary Increase), 311, 315-317, 319-323, 325-327, 329, 331-333, 335 North Superior St., Toledo, BC100006862

WASHINGTON

Walla Walla County

Walla Walla Downtown Historic District, Roughly bounded by Rose St., Palouse St., alley between Alder and Popular Sts., and 3rd Ave., Walla Walla, SG100006868

Additional documentation has been received for the following resources:

MINNESOTA

Yellow Medicine County

Canby Commercial Historic District (Additional Documentation), Roughly 1st and 2nd Sts. and St. Olaf Ave., Canby, AD80002189

VIRGINIA

Brunswick County

Lawrenceville Historic District (Additional Documentation) Roughly bounded by West 6th Ave., Maria St., Lawrenceville townline, Rose Cr., and Thomas St., Lawrenceville vicinity, AD00000313

Nominations submitted by Federal Preservation Officers:

The State Historic Preservation Officer reviewed the following nominations and responded to the Federal Preservation Officer within 45 days of receipt of the nominations and supports listing the properties in the National Register of Historic Places.

GUAM

Guam County

Dådi Beach Japanese Bunker, Address Restricted, Santa Rita vicinity, SG100006869

Dobo Spring Latte Set Complex, Address Restricted, Santa Rita vicinity, SG100006870

Maulap River Complex Site, Address Restricted, Santa Rita vicinity, SG100006871

Authority: Section 60.13 of 36 CFR part 60.

Dated: July 27, 2021.
Sherry A. Frear,
Chief, National Register of Historic Places/National Historic Landmarks Program.

[FR Doc. 2021-17010 Filed 8-9-21; 8:45 am]

BILLING CODE 4312-52-P